DEPARTMENT OF COMMERCE

Foreign-Trade Zones Board

[Docket T-2-2011]

Foreign-Trade Zone 26, Temporary/Interim Manufacturing Authority, Makita Corporation of America, Hand-Held Power Tool and Gasoline/Electric-Powered Garden Product Manufacturing; Notice of Approval

On June 22, 2011, the Executive Secretary of the Foreign-Trade Zones (FTZ) Board filed an application submitted by Georgia Foreign-Trade Zone, Inc., grantee of FTZ 26, requesting temporary/interim manufacturing (T/IM) authority, on behalf of Makita Corporation of America, to manufacture hand-held power tools and garden products under FTZ procedures within FTZ 26-Site 20, in Buford, Georgia.

The application was processed in accordance with T/IM procedures, as authorized by FTZ Board Orders 1347 (69 FR 52857, 8/30/2004) and 1480 (71 FR 55422, 9/22/2006), including notice in the Federal Register inviting public comment (76 FR 37781, 06/28/2011). The FTZ staff examiner reviewed the application and determined that it meets the criteria for approval under T/IM procedures except for finished products under HTSUS 8465.91 (table, slide and compound miter saws). Pursuant to the authority delegated to the FTZ Board Executive Secretary in the above-referenced Board Orders, the application is approved, with the exception of products under HTSUS 8465.91, effective this date, until August 5, 2013, subject to the FTZ Act and the Board's regulations, including Section 400.28.

Dated: August 5, 2011.
Andrew McGilvray,
Executive Secretary.

[FR Doc. 2011-20569 Filed 8-11-11; 8:45 am]

BILLING CODE P